FEDERAL ELECTION COMMISSION

Sunshine Act; Cancellation of Previously Announced Meetings: Tuesday, August 15, 2006, Meeting Closed to the Public and Thursday, August 17, 2006, Meeting Open to the Public

DATE AND TIME: Tuesday, August 29, 2006 at 10 a.m.

PLACE: 999 E Street, NW., Washington, DC (Ninth Floor).

STATUS: This meeting will be open to the public.

ITEMS TO BE DISCUSSED: Correction and Approval of Minutes.

Advisory Opinion 2006-21: Cantwell 2006 by Matthew S. Butler, Campaign Manager.

Advisory Opinion 2006-26: Texans for Henry Bonilla by counsel, Jan Witold Baran.

Proposed Interim Final Rule Exempting Grassroots Lobbying Communications from the Definition of “Electioneering Communication.”

Notice of Disposition of Petition for Rulemaking to Except Certain “Grassroots Lobbying”

Communications from the Definition of “Electioneering Communication.”

Management and Administrative Matters.

DATE and TIME: Tuesday, August 29, 2006 at the conclusion of the open meeting and Wednesday, August 30, 2006.

PLACE: 999 E Street, NW., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

PERSON TO CONTACT FOR INFORMATION: Mr. Robert Biersack, Press Officer, Telephone: (202) 694-1220.

Mary W. Dove,
Secretary of the Commission.

[FR Doc. 06-7162 Filed 8-22-06; 2:33 pm]

BILLING CODE 6715-01-M